DEPARTMENT OF JUSTICE

Drug Enforcement Administration

Ramona K. Morris, M.D.; Revocation of Registration

On April 19, 2002, the Deputy Assistant Administrator, Office of Diversion Control, Drug Enforcement Administration (DEA), issued an Order to Show Cause to Ramona K. Morris, M.D. (Dr. Morris) of Kingman, Kansas, notifying her of an opportunity to show cause as to why DEA should not revoke her DEA Certificate of Registration, BM6789056 under 21 U.S.C. 824(a)(3), and deny any pending applications for renewal or modification of that registration. As a basis for revocation, the Order to Show Cause alleged that Dr. Morris is not currently authorized to practice medicine or handle controlled substances in Kansas, the state in which she practices. The order also notified Dr. Morris that should no request for a hearing be filed within 30 days, her hearing right would be deemed waived.

The Order to Show Cause was sent by certified mail to Dr. Morris at her registered location in Kingman, Kansas. DEA received a signed receipt indicating that the Order to Show Cause was received on Dr. Morris's behalf on April 29, 2002. DEA has not received a request for hearing or any other reply from Dr. Morris or anyone purporting to represent her in this matter. Therefore, the Deputy Administrator, finding that (1) 30 days have passed since the receipt of the Order to Show Cause, and (2) no request for a hearing having been received, concludes that Dr. Morris is deemed to have waived her hearing right. After considering material from the investigative file in this matter, the Deputy Administrator now enters his final order without a hearing pursuant to 21 CFR 1301.43(d) and (e) and 1301.46.

The Deputy Administrator finds that Dr. Morris possessed DEA Certificate of Registration BM6789056. The Deputy Administrator further finds that effective July 9, 2002, the Board of Healing Arts of the State of Kansas revoked Dr. Morris's state license to practice medicine. Therefore, the Deputy Administrator finds that Dr. Morris is not currently authorized to practice medicine in the State of Kansas. As a result, it is reasonable to infer that she is also without authorization to handle controlled substances in that state.

DEA does not have statutory authority under the Controlled Substances Act to issue or maintain a registration if the applicant or registrant is without state authority to handle controlled substances in the state in which she conducts business. See 21 U.S.C. 802(21), 823(f) and 824(a)(3). This prerequisite has been consistently upheld. See Muttaiya Darmarajeh, M.D., 66 FR 52936 (2001); Dominick A. Ricci, M.D., 58 FR 51104 (1993); Bobby Watts, M.D., 53 FR 11919 (1988).

Here, it is clear that Dr. Morris's medical license has been suspended and she is not licensed to handle controlled substances in the State of Kansas, where she is registered with DEA. Therefore, she is not entitled to a DEA registration in that state.

Accordingly, the Deputy Administrator of the Drug Enforcement Administration, pursuant to the authority vested in him by 21 U.S.C. 823 and 824 and 28 CFR 0.100(b) and 0.104, hereby orders that DEA Certificate of Registration BM6789056, issued to Ramona K. Morris, M.D., and it hereby is, revoked. The Deputy Administrator further orders that any pending applications for renewal or modification of such registration be, and they hereby are, denied. This order is effective December 12, 2002.

Dated: October 28, 2002.
John B. Brown, III,
Deputy Administrator.

[FR Doc. 02-28658 Filed 11-8-02; 8:45 am]

BILLING CODE 4410-09-M